DEPARTMENT OF HEALTH AND HUMAN SERVICES

Health Resources and Services Administration

National Vaccine Injury Compensation Program; List of Petitions Received

AGENCY: Health Resources and Services Administration (HRSA), Department of Health and Human Services (HHS).

ACTION: Notice.

SUMMARY: HRSA is publishing this notice of petitions received under the National Vaccine Injury Compensation Program (the Program), as required by the Public Health Service (PHS) Act, as amended. While the Secretary of HHS is named as the respondent in all proceedings brought by the filing of petitions for compensation under the Program, the United States Court of Federal Claims is charged by statute with responsibility for considering and acting upon the petitions.

FOR FURTHER INFORMATION CONTACT: For information about requirements for filing petitions, and the Program in general, contact Lisa L. Reyes, Clerk of Court, United States Court of Federal Claims, 717 Madison Place NW, Washington, DC 20005, (202) 357-6400. For information on HRSA's role in the Program, contact the Director, Division of Injury Compensation Programs, 5600 Fishers Lane, Room 14W-18, Rockville, Maryland 20857; 1-800-338-2382, or visit our website at: https://www.hrsa.gov/vaccine-compensation.

SUPPLEMENTARY INFORMATION: The Program provides a system of no-fault compensation for certain individuals who have been injured by specific vaccines. Subtitle 2 of Title XXI of the PHS Act, 42 U.S.C. 300aa-10 et seq., provides that those seeking compensation are to file a petition with the United States Court of Federal Claims and to serve a copy of the petition to the Secretary of HHS, who is named as the respondent in each proceeding. The Secretary has delegated this responsibility under the Program to HRSA. The Court is directed by statute to appoint special masters who take evidence, conduct hearings as appropriate, and make initial decisions as to eligibility for, and amount of, compensation.

A petition may be filed with respect to injuries, disabilities, illnesses, conditions, and deaths resulting from vaccines described in the Vaccine Injury Table (the Table) set forth at 42 CFR 100.3. This Table lists for each covered vaccine the conditions that may lead to compensation and, for each condition, the time period for occurrence of the first symptom or manifestation of onset or of significant aggravation after vaccine administration. Compensation may also be awarded for conditions not listed in the Table and for conditions that are manifested outside the time periods specified in the Table, but only if the petitioner shows that the condition was caused by one of the listed vaccines.

Section 2112(b)(2) of the PHS Act, 42 U.S.C. 300aa-12(b)(2), requires that “[w]ithin 30 days after the Secretary receives service of any petition filed under section 2111 the Secretary shall publish notice of such petition in the Federal Register.” Set forth below is a list of petitions received by HRSA on October 1, 2025, through December 31, 2025. This list covers a 3-month period to expedite reporting following the government shutdown, which resolved in mid-November 2025. This list provides the name of the petitioner, city, and state of vaccination (if unknown then the city and state of the person or attorney filing the claim), and case number. In cases where the Court has redacted the name of a petitioner and/or the case number, the list reflects such redaction.

Section 2112(b)(2) also provides that the special master “shall afford all interested persons an opportunity to submit relevant, written information” relating to the following:

1. The existence of evidence “that there is not a preponderance of the evidence that the illness, disability, injury, condition, or death described in the petition is due to factors unrelated to the administration of the vaccine described in the petition,” and

2. Any allegation in a petition that the petitioner either:

a. “[S]ustained, or had significantly aggravated, any illness, disability, injury, or condition not set forth in the Vaccine Injury Table but which was caused by” one of the vaccines referred to in the Table, or

b. “[S]ustained, or had significantly aggravated, any illness, disability, injury, or condition set forth in the Vaccine Injury Table the first symptom or manifestation of the onset or significant aggravation of which did not occur within the time period set forth in the Table but which was caused by a vaccine” referred to in the Table.

In accordance with Section 2112(b)(2), all interested persons may submit written information relevant to the issues described above in the case of the petitions listed below. Any person choosing to do so should file an original and 3 copies of the information with the Clerk of the United States Court of Federal Claims at the address listed above (under the heading For Further Information Contact), with a copy to HRSA addressed to Director, Division of Injury Compensation Programs, Health Systems Bureau, 5600 Fishers Lane, 14W-18, Rockville, Maryland 20857. The Court's caption (Petitioner's Name v. Secretary of HHS) and the docket number assigned to the petition should be used as the caption for the written submission. Chapter 35 of Title 44, United States Code, related to paperwork reduction, does not apply to information required for purposes of carrying out the Program.

Thomas J. Engels,
Administrator.

List of Petitions Filed

1. Anthony Gillespie, Black River Falls, Wisconsin, Court of Federal Claims No: 25-1632V

2. Sean Allan, Farmington Hills, Michigan, Court of Federal Claims No: 25-1633V

3. Philip Barraco, Woodhaven, Michigan, Court of Federal Claims No: 25-1635V

4. Desirae Ada, Colorado Springs, Colorado, Court of Federal Claims No: 25-1638V

5. Jason Eirkson, Washington, District of Columbia, Court of Federal Claims No: 25-1639V

6. Amber Scheuermann, Grand Rapids, Michigan, Court of Federal Claims No: 25-1642V

7. Linda Keys, Olympia Fields, Illinois, Court of Federal Claims No: 25-1643V

8. Krista Day, Indianapolis, Indiana, Court of Federal Claims No: 25-1645V

9. Jenna S. Fritscher on behalf of the estate of S.G.S., Deceased, Baton Rouge, Louisiana, Court of Federal Claims No: 25-1646V

10. Emily Olson, Woodridge, Illinois, Court of Federal Claims No: 25-1647V

11. Mia Kelley, Grand Rapids, Minnesota, Court of Federal Claims No: 25-1649V

12. Heather M. Krug, Des Moines, Iowa, Court of Federal Claims No: 25-1650V

13. Ann C. Moore, Memphis, Tennessee, Court of Federal Claims No: 25-1653V

14. Laura Camuso, New York, New York, Court of Federal Claims No: 25-1655V

15. Lucian David Ortiz, Los Angeles, California, Court of Federal Claims No: 25-1656V

16. Randi Ramos, Secaucus, New Jersey, Court of Federal Claims No: 25-1658V

17. Mary Ann Murphy, Norridge, Illinois, Court of Federal Claims No: 25-1660V

18. Susan Bejar, Dallas, Pennsylvania, Court of Federal Claims No: 25-1661V

19. Chad Lambert, Wichita, Kansas, Court of Federal Claims No: 25-1662V

20. Sydney Fitzgibbons, Greensboro, North Carolina, Court of Federal Claims No: 25-1666V

21. Fermin Diaz, Kissimmee, Florida, Court of Federal Claims No: 25-1669V

22. John Andrew Tutmaher, Erie, Pennsylvania, Court of Federal Claims No: 25-1672V

23. Theresa Moss, Washington, District of Columbia, Court of Federal Claims No: 25-1676V

24. Stephen Nnamani, Evanston, Illinois, Court of Federal Claims No: 25-1677V

25. Anaite Balsells, Stamford, Connecticut, Court of Federal Claims No: 25-1680V

26. Cecil Mullins, Tuscola, Illinois, Court of Federal Claims No: 25-1681V

27. Odile Salley, Hewlett, New York, Court of Federal Claims No: 25-1683V

28. Rita Brown, Philadelphia, Pennsylvania, Court of Federal Claims No: 25-1684V

29. Malinda Timm, St. Peters, Montana, Court of Federal Claims No: 25-1686V

30. Jennifer Silva, Harrisonburg, Virginia, Court of Federal Claims No: 25-1687V

31. Jessica Cervantes, Westminster, Colorado, Court of Federal Claims No: 25-1689V

32. Darrick Bennett, Black River Falls, Wisconsin, Court of Federal Claims No: 25-1690V

33. Danny Mercado, Baldwin Park, California, Court of Federal Claims No: 25-1691V

34. Leah Whitaker, Peoria, Arizona, Court of Federal Claims No: 25-1692V

35. Sondra Hedges, Medford, New Jersey, Court of Federal Claims No: 25-1694V

36. Hoang Nguyen, Sacramento, California, Court of Federal Claims No: 25-1698V

37. April Smith, Vancouver, Washington, Court of Federal Claims No: 25-1699V

38. Patricia Ann Wise, Georgetown, South Carolina, Court of Federal Claims No: 25-1701V

39. Lindsey Witson, Pearland, Texas, Court of Federal Claims No: 25-1702V

40. Joan O'Reilly on behalf of the estate of Richard Platt, Deceased, New York, New York, Court of Federal Claims No: 25-1703V

41. Shelby Hartley, Lawrenceburg, Kentucky, Court of Federal Claims No: 25-1704V

42. Helen Hirtle, Rochester, New Hampshire, Court of Federal Claims No: 25-1707V

43. Kelly Mabra, Cheyenne, Wyoming, Court of Federal Claims No: 25-1708V

44. Troy Kleine, Woodridge, Illinois, Court of Federal Claims No: 25-1709V

45. William Carter, Gulf Shores, Alabama, Court of Federal Claims No: 25-1710V

46. Jeanette Rose Gruenberger, Wheat Ridge, Colorado, Court of Federal Claims No: 25-1711V

47. Rudolf Swanepoel, Sugar Hill, Georgia, Court of Federal Claims No: 25-1712V

48. Kelsy May, Johnstown, Pennsylvania, Court of Federal Claims No: 25-1713V

49. Isabella DeStefano, Bergenfield, New Jersey, Court of Federal Claims No: 25-1714V

50. Samantha Roberts, Phoenix, Arizona, Court of Federal Claims No: 25-1715V

51. Sorin Holland, Richmond, Virginia, Court of Federal Claims No: 25-1716V

52. Matthew Tippins, Puyallup, Washington, Court of Federal Claims No: 25-1719V

53. Donna Haywood, Woodridge, Illinois, Court of Federal Claims No: 25-1720V

54. Joshua Lubetkin, East Windsor, Connecticut, Court of Federal Claims No: 25-1722V

55. Stephany Brown on behalf of J.J.C., Fairfax, Virginia, Court of Federal Claims No: 25-1726V

56. Wendy De La Torre, Burlingame, California, Court of Federal Claims No: 25-1727V

57. Alejandro Villegas Peredo, San Diego, California, Court of Federal Claims No: 25-1728V

58. Lynne Voelker, Atlanta, Georgia, Court of Federal Claims No: 25-1730V

59. Quincy Purnell, Dresher, Pennsylvania, Court of Federal Claims No: 25-1731V

60. Ann Kirby, Needham, Massachusetts, Court of Federal Claims No: 25-1732V

61. Najee Baham, New Lisbon, Wisconsin, Court of Federal Claims No: 25-1733V

62. Victor Rocha, Englewood, New Jersey, Court of Federal Claims No: 25-1734V

63. Gregory Smith, Arlington, Virginia, Court of Federal Claims No: 25-1735V

64. Deborah Smith, Englewood, New Jersey, Court of Federal Claims No: 25-1736V

65. Lauren Madea, East Stroudsburg, Pennsylvania, Court of Federal Claims No: 25-1737V

66. Guzal Astanova, Philadelphia, Pennsylvania, Court of Federal Claims No: 25-1741V

67. James Lambertson, Santa Maria, California, Court of Federal Claims No: 25-1745V

68. Tracey Hollingshed, Atlanta, Georgia, Court of Federal Claims No: 25-1746V

69. Katura Gardner, Rochester, New York, Court of Federal Claims No: 25-1748V

70. Sarah Savage on behalf of R.S., Bee Cave, Texas, Court of Federal Claims No: 25-1749V

71. Saena Colonna on behalf of E.C., New York, New York, Court of Federal Claims No: 25-1752V

72. Susan Lesky, Ironwood, Michigan, Court of Federal Claims No: 25-1753V

73. Sarah Carswell on behalf of the estate of N.L.B., Deceased, New York, New York, Court of Federal Claims No: 25-1754V

74. Christy Rohrbaugh, Dresher, Pennsylvania, Court of Federal Claims No: 25-1756V

75. Jimmy Zavala, Dallas, Texas, Court of Federal Claims No: 25-1757V

76. Shira Plagman, Pearl River, New York, Court of Federal Claims No: 25-1759V

77. Cynthia Ryan, Dallas, Texas, Court of Federal Claims No: 25-1762V

78. Mark Chittenden, New York, New York, Court of Federal Claims No: 25-1763V

79. Michael Garcia, New York, New York, Court of Federal Claims No: 25-1764V

80. Vince Magistrado, Dresher, Pennsylvania, Court of Federal Claims No: 25-1765V

81. Christopher Davey, Waterford, Michigan, Court of Federal Claims No: 25-1766V

82. Michael Arons, New York, New York, Court of Federal Claims No: 25-1767V

83. Michelle Leibovitz, East Windsor, Connecticut, Court of Federal Claims No: 25-1768V

84. Willie G. Allison, Milwaukee, Wisconsin, Court of Federal Claims No: 25-1769V

85. Erika Walker-Bright, Woodridge, Illinois, Court of Federal Claims No: 25-1770V

86. Kristine Ross, Highlands Ranch, Colorado, Court of Federal Claims No: 25-1771V

87. Beth Olsen, Coon Rapids, Minnesota, Court of Federal Claims No: 25-1772V

88. Mary Muthersbaugh, Nashua, New Hampshire, Court of Federal Claims No: 25-1773V

89. Edward Torres, Dresher, Pennsylvania, Court of Federal Claims No: 25-1775V

90. Howard Eric Zinhagel, Miami, Florida, Court of Federal Claims No: 25-1776V

91. Joel Marks, Englewood, New Jersey, Court of Federal Claims No: 25-1777V

92. Anna K. Guidera, Granite Bay, California, Court of Federal Claims No: 25-1778V

93. Tashaunda McAfee, Aurora, Illinois, Court of Federal Claims No: 25-1779V

94. Sandra Miller, Port Jefferson, New York, Court of Federal Claims No: 25-1780V

95. Earl Cox, Woodridge, Illinois, Court of Federal Claims No: 25-1781V

96. Joanne Mitchell, Washington, District of Columbia, Court of Federal Claims No: 25-1783V

97. John Scholla, Dresher, Pennsylvania, Court of Federal Claims No: 25-1786V

98. Shari Weitzenkamp, Coralville, Iowa, Court of Federal Claims No: 25-1787V

99. Hannah Branning, Dresher, Pennsylvania, Court of Federal Claims No: 25-1788V

100. Sarah Ayers, Greensboro, North Carolina, Court of Federal Claims No: 25-1790V

101. Saka Pierre-Louis on behalf of S.D., New York, New York, Court of Federal Claims No: 25-1791V

102. Kyle Chay, Plymouth, Wisconsin, Court of Federal Claims No: 25-1793V

103. Linda Machado, Putnam, Connecticut, Court of Federal Claims No: 25-1794V

104. Devon D. Hanna, Deerfield, Wisconsin, Court of Federal Claims No: 25-1796V

105. Edward William Schwartz, Dresher, Pennsylvania, Court of Federal Claims No: 25-1798V

106. Marian Koehler on behalf of L.B., Los Angeles, California, Court of Federal Claims No: 25-1800V

107. Paige Osterman, Woodridge, Illinois, Court of Federal Claims No: 25-1801V

108. Andrew Chotkowski, Portland, Oregon, Court of Federal Claims No: 25-1802V

109. Michael Perez-Mesa, Colorado Springs, Colorado, Court of Federal Claims No: 25-1803V

110. Rosibel LaPointe, Springfield, Massachusetts, Court of Federal Claims No: 25-1804V

111. Kelly Stimac, Flat Rock, Missouri, Court of Federal Claims No: 25-1805V

112. Tammy Rebecca Hammond, Beverly Hills, California, Court of Federal Claims No: 25-1807V

113. Paul T. Sandoval, Brighton, Colorado, Court of Federal Claims No: 25-1808V

114. Angel Hawkins, New Orleans, Louisiana, Court of Federal Claims No: 25-1809V

115. Kristi Murphy, Washington, District of Columbia, Court of Federal Claims No: 25-1810V

116. Corrine St. Onge, Bedford, New Hampshire, Court of Federal Claims No: 25-1811V

117. Fernando Rasco, Washington, District of Columbia, Court of Federal Claims No: 25-1812V

118. Benjamin Louis Palzer, Englewood, New Jersey, Court of Federal Claims No: 25-1813V

119. Heather Wishart-Smith, Washington, District of Columbia, Court of Federal Claims No: 25-1814V

120. Jacob R. Hildebrandt, Mankato, Minnesota, Court of Federal Claims No: 25-1815V

121. Tod A. Legas on behalf of I.B.L., Fort Worth, Texas, Court of Federal Claims No: 25-1818V

122. Lori S. Stevens, Centereach, New York, Court of Federal Claims No: 25-1820V

123. Michael Morrison, New York, New York,Court of Federal Claims No: 25-1821V

124. Lina A. Christian, Richmond, Virginia, Court of Federal Claims No: 25-1823V

125. Guadalupe Melendrez, Los Angeles, California, Court of Federal Claims No: 25-1824V

126. Cameron Santa-Cruz, Woodridge, Illinois, Court of Federal Claims No: 25-1825V

127. James Folger, New York, New York, Court of Federal Claims No: 25-1831V

128. Joe McClure, Woodridge, Illinois, Court of Federal Claims No: 25-1834V

129. Andrea Yazzie, Chinle, Arizona, Court of Federal Claims No: 25-1835V

130. Vivian McCormack, Trevor, Wisconsin, Court of Federal Claims No: 25-1837V

131. Debora Bitzer, Sarasota, Florida, Court of Federal Claims No: 25-1838V

132. Sandra Watson on behalf of the estate of Lawson Little, Deceased, Washington, District of Columbia, Court of Federal Claims No: 25-1839V

133. Michelle Parsels on behalf of J.S., Woodridge, Illinois, Court of Federal Claims No: 25-1842V

134. Lauren Patricia Nelson, Beverly Hills, California, Court of Federal Claims No: 25-1843V

135. Kimberly A. Steele, Belton, Missouri, Court of Federal Claims No: 25-1847V

136. James E. Reed, Boscobel, Wisconsin, Court of Federal Claims No: 25-1849V

137. Daniel Sandoval, Dresher, Pennsylvania, Court of Federal Claims No: 25-1850V

138. Cindy Wagner, Slidell, Louisiana, Court of Federal Claims No: 25-1855V

139. Dawn Jordan, Goshen, New York, Court of Federal Claims No: 25-1856V

140. Iran Shuttlesworth, New York, New York, Court of Federal Claims No: 25-1858V

141. Kristina Morton, Edgewater, Florida, Court of Federal Claims No: 25-1859V

142. Amulya Thoranam, New York, New York, Court of Federal Claims No: 25-1860V

143. Tammi Gorniak, La Crosse, Wisconsin, Court of Federal Claims No: 25-1861V

144. Xin Jiang, Solon, Ohio, Court of Federal Claims No: 25-1864V

145. Brent Joseph Buschur, Celina, Ohio, Court of Federal Claims No: 25-1866V

146. Michael Hurley, New York, New York, Court of Federal Claims No: 25-1867V

147. Diane Brockett, Willowick, Ohio, Court of Federal Claims No: 25-1869V

148. Annabel Chyung, New York, New York, Court of Federal Claims No: 25-1870V

149. Bailey Zale McDaniel, Dresher, Pennsylvania, Court of Federal Claims No: 25-1872V

150. Dalene Kelly, Painesville, Ohio, Court of Federal Claims No: 25-1873V

151. Ryan J. Pruitt, Waupun, Wisconsin, Court of Federal Claims No: 25-1874V

152. Darlene Shore on behalf of the estate of Ronald Shore, Deceased, Washington, District of Columbia, Court of Federal Claims No: 25-1877V

153. Scott Hoogerwerf, Murrieta, California, Court of Federal Claims No: 25-1878V

154. Angela Whitaker, Dublin, Ohio, Court of Federal Claims No: 25-1879V

155. Eric D. Connor, Boscobel, Wisconsin, Court of Federal Claims No: 25-1885V

156. Eileen Poulin, Lewiston, Maine, Court of Federal Claims No: 25-1886V

157. Cynthia Matthews, Rice Lake, Wisconsin, Court of Federal Claims No: 25-1887V

158. Kenneth Gary, State College, Pennsylvania, Court of Federal Claims No: 25-1888V

159. Geoffrey Clark, Glen Rock, New Jersey, Court of Federal Claims No: 25-1889V

160. Crystal Hunter, Newark, Delaware, Court of Federal Claims No: 25-1890V

161. Elizabeth P. Reed, Greensboro, North Carolina, Court of Federal Claims No: 25-1891V

162. Cristina Osterlund, Walnut Creek, California, Court of Federal Claims No: 25-1892V

163. Sarah Ridley Gal, Washington, District of Columbia, Court of Federal Claims No: 25-1893V

164. Samual Powell, Washington, District of Columbia, Court of Federal Claims No: 25-1894V

165. Tameria Vickerson, Largo, Florida, Court of Federal Claims No: 25-1899V

166. Catamara Rosarium, Richmond, Virginia, Court of Federal Claims No: 25-1904V

167. Mary Moore, Christiana, Tennessee, Court of Federal Claims No: 25-1905V

168. Michael Egan, Temple, Texas, Court of Federal Claims No: 25-1906V

169. Shannon O'Sullivan, Woodridge, Illinois, Court of Federal Claims No: 25-1909V

170. Gail Tarrant, New York, New York, Court of Federal Claims No: 25-1910V

171. La Nita Todd, Memphis, Tennessee, Court of Federal Claims No: 25-1911V

172. Yelitza Duran Lopez, Lowell, Massachusetts, Court of Federal Claims No: 25-1913V

173. Terri Hooper, Raleigh, North Carolina, Court of Federal Claims No: 25-1916V

174. Michael H. Taylor, Sioux City, Iowa, Court of Federal Claims No: 25-1917V

175. Rebecca Freeman, Dresher, Pennsylvania, Court of Federal Claims No: 25-1918V

176. Dion Mathews, Waupun, Wisconsin, Court of Federal Claims No: 25-1919V

177. Nancy Ortega, Woodridge, Illinois, Court of Federal Claims No: 25-1920V

178. Danielle Pagan on behalf of A.C.P, Richmond, Virginia, Court of Federal Claims No: 25-1922V

179. Loretta Nelson, Montgomery, Alabama, Court of Federal Claims No: 25-1923V

180. Jacqueline K. Harrell, Woodridge, Illinois, Court of Federal Claims No: 25-1925V

181. Christina Dorko, Dresher, Pennsylvania, Court of Federal Claims No: 25-1928V

182. Kevin Lewis, Reston, Virginia, Court of Federal Claims No: 25-1930V

183. Kimberly A. Guindazola, Fort Worth, Texas, Court of Federal Claims No: 25-1933V

184. Darla Shaffer, Du Bois, Pennsylvania, Court of Federal Claims No: 25-1934V

185. Alison Bailey, Dover, New Hampshire, Court of Federal Claims No: 25-1935V

186. James Button, Dresher, Pennsylvania, Court of Federal Claims No: 25-1936V

187. Marion Rodgers, Center Moriches, New York, Court of Federal Claims No: 25-1938V

188. Frank Lundien, Springfield, Missouri, Court of Federal Claims No: 25-1943V

189. Hector Delgado on behalf of S.D., Kennesaw, Georgia, Court of Federal Claims No: 25-1944V

190. Sera Karahoca, Dresher, Pennsylvania, Court of Federal Claims No: 25-1945V

191. Nancy Jane Aswad, Beverly Hills, California, Court of Federal Claims No: 25-1948V

192. Karen Richards, Westerville, Ohio, Court of Federal Claims No: 25-1951V

193. Kara Jackson, Englewood, New Jersey, Court of Federal Claims No: 25-1953V

194. Karlene Robinson, Woodridge, Illinois, Court of Federal Claims No: 25-1954V

195. Arthur D. Quinn, Waverly, Tennessee, Court of Federal Claims No: 25-1957V

196. Deborah B. Kendrick, Chesterfield, Virginia, Court of Federal Claims No: 25-1958V

197. Veronica Holley, New York, New York, Court of Federal Claims No: 25-1961V

198. Scott Barlow, Medford, Oregon, Court of Federal Claims No: 25-1962V

199. Sharman Bowes, Dresher, Pennsylvania, Court of Federal Claims No: 25-1963V

200. Elizabeth Larkin, Beverly Hills, California, Court of Federal Claims No: 25-1964V

201. Priya Desai, Beverly Hills, California, Court of Federal Claims No: 25-1965V

202. Ahmad Masalha, Oak Lawn, Illinois, Court of Federal Claims No: 25-1966V

203. Kim Armstrong, Louisville, Kentucky, Court of Federal Claims No: 25-1967V

204. Lauren Seeger on behalf of V.S., Dublin, Ohio, Court of Federal Claims No: 25-1969V

205. Lena Bobo, Memphis, Tennessee, Court of Federal Claims No: 25-1975V

206. Megan Marlett, State College, Pennsylvania, Court of Federal Claims No: 25-1977V

207. Stephen Beatrice, Dresher, Pennsylvania, Court of Federal Claims No: 25-1978V

208. Patricia Dawn Bowman, Washington, District of Columbia, Court of Federal Claims No: 25-1982V

209. Elizabeth Splittgerber, Dallas, Texas, Court of Federal Claims No: 25-1983V

210. Mary James Ashley, Wilmington, North Carolina, Court of Federal Claims No: 25-1986V

211. Heba Kashkosh, Dresher, Pennsylvania, Court of Federal Claims No: 25-1989V

212. Jun Sasaki, Philadelphia, Pennsylvania, Court of Federal Claims No: 25-1990V

213. Devan Kearney, Woodridge, Illinois, Court of Federal Claims No: 25-1991V

214. Connie Camp Gish, College Place, Washington, Court of Federal Claims No: 25-1992V

215. Linda Cordes, Dresher, Pennsylvania, Court of Federal Claims No: 25-1994V

216. Madhavi Ancha, Greensboro, North Carolina, Court of Federal Claims No: 25-1999V

217. Meghedi Hacopi on behalf of E.S., Glendale, California, Court of Federal Claims No: 25-2000V

218. Charly Harris, Wilkesboro, North Carolina, Court of Federal Claims No: 25-2001V

219. May Anderson, Lockhart, Texas, Court of Federal Claims No: 25-2003V

220. Claudia Brand, Gurnee, Illinois, Court of Federal Claims No: 25-2005V

221. Kelly Ansec, Solon, Ohio, Court of Federal Claims No: 25-2006V

222. Magdalena Lapuz, Woodridge, Illinois, Court of Federal Claims No: 25-2008V

223. Felicia Crivello, Beverly Hills, California, Court of Federal Claims No: 25-2009V

224. Lisa Diane Cambarare-Saunders, Elyria, Ohio, Court of Federal Claims No: 25-2014V

225. Kay Karolyshyn, Dresher, Pennsylvania, Court of Federal Claims No: 25-2017V

226. Delaney K. Watt, Boscobel, Wisconsin, Court of Federal Claims No: 25-2019V

227. Mary K. Lathers, Farmington Hills, Michigan, Court of Federal Claims No: 25-2020V

228. Crystal Musser, Marion, Virginia, Court of Federal Claims No: 25-2021V

229. Rachel Dunnavant, New Albany, Ohio, Court of Federal Claims No: 25-2023V

230. Sheila Guy, Woodridge, Illinois, Court of Federal Claims No: 25-2028V

231. Jimmy Giddings, Englewood, New Jersey, Court of Federal Claims No: 25-2029V

232. John Romanowski, Cumming, Georgia, Court of Federal Claims No: 25-2030V

233. Kimberly Fromm, Brookfield, Wisconsin, Court of Federal Claims No: 25-2031V

234. James Wetzel, White Plains, New York, Court of Federal Claims No: 25-2032V

235. Chad Deniston, Walnut Creek, California, Court of Federal Claims No: 25-2034V

236. Darlene Gendusa, Los Angeles, California, Court of Federal Claims No: 25-2035V

237. Cynthia Bogert, Waxhaw, North Carolina, Court of Federal Claims No: 25-2036V

238. Marriea Layton, Murphy, Texas, Court of Federal Claims No: 25-2037V

239. Anthony Casino, East Setauket, New York, Court of Federal Claims No: 25-2038V

240. Tracy Denison, Dresher, Pennsylvania, Court of Federal Claims No: 25-2039V

241. Lori Hogan, Valparaiso, Indiana, Court of Federal Claims No: 25-2042V

242. Kathleen Lavonne, Dallas, Texas, Court of Federal Claims No: 25-2045V

243. Zarah M. Kimble on behalf of K.I.K., San Diego, California, Court of Federal Claims No: 25-2046V

244. Joseph Timmons, Philadelphia, Pennsylvania, Court of Federal Claims No: 25-2048V

245. Donna Corporon, Dresher, Pennsylvania, Court of Federal Claims No: 25-2050V

246. Eileen Boyd, Monmouth County, New Jersey, Court of Federal Claims No: 25-2051V

247. Cindy J. Saxey, Hurlburt Field, Florida, Court of Federal Claims No: 25-2052V

248. John Vassar, Greenville, South Carolina, Court of Federal Claims No: 25-2053V

249. Machete Jaguar, Champaign, Illinois, Court of Federal Claims No: 25-2055V

250. Guyles Morris, Marblehead, Massachusetts, Court of Federal Claims No: 25-2056V

251. Sarah Ledford, Dresher, Pennsylvania, Court of Federal Claims No: 25-2057V

252. Mellissa Mannella, White Plains, New York, Court of Federal Claims No: 25-2059V

253. Suzanne Hansen, Green Bay, Wisconsin, Court of Federal Claims No: 25-2061V

254. Andrea Ash, Desloge, Missouri, Court of Federal Claims No: 25-2062V

255. Leslie Hansen, Littleton, Colorado, Court of Federal Claims No: 25-2063V

256. Tina Barton, Oceanside, California, Court of Federal Claims No: 25-2068V

257. Laura Marx, Castleton, New York, Court of Federal Claims No: 25-2069V

258. Lisa Holt, Foley, Alabama, Court of Federal Claims No: 25-2072V

259. Angelica Monroe, Novi, Michigan, Court of Federal Claims No: 25-2074V

260. Thelma Talamantes Algonquin, Illinois, Court of Federal Claims No: 25-2076V

261. Madeleine Herron, Charleston, South Carolina, Court of Federal Claims No: 25-2077V

262. Jill Kolinski, Chicago, Illinois, Court of Federal Claims No: 25-2080V

263. David Karlman, Woodridge, Illinois, Court of Federal Claims No: 25-2081V

264. Sherry Gomes, Riverside, California, Court of Federal Claims No: 25-2084V

265. Conrad E. Miller, East McKeesport, Pennsylvania, Court of Federal Claims No: 25-2085V

266. Dipika Bhavsar, Washington, District of Columbia, Court of Federal Claims No: 25-2086V

267. Vickey Gonzales, White Plains, New York Court of Federal Claims No: 25-2087V

268. Melody Atkins, Chicago, Illinois, Court of Federal Claims No: 25-2090V

269. Justin Chin, Sarasota, Florida, Court of Federal Claims No: 25-2092V

270. Caroline Peralli on behalf of the estate of Craig Peralli, Deceased, Longview, Texas, Court of Federal Claims No: 25-2094V

271. Sueann Sweatman, Columbia, South Carolina, Court of Federal Claims No: 25-2096V

272. Dylan Waters, Dresher, Pennsylvania, Court of Federal Claims No: 25-2098V

273. Gerald Smith, Vancouver, Washington, Court of Federal Claims No: 25-2101V

274. Emily Smith, Ranburne, Alabama, Court of Federal Claims No: 25-2102V

275. Kavita Tyler, Chicago, Illinois, Court of Federal Claims No: 25-2104V

276. Matthew Schinzel, Phoenix, Arizona, Court of Federal Claims No: 25-2106V

277. Sheila Carey, Woodridge, Illinois, Court of Federal Claims No: 25-2107V

278. Gloria Dumas, New York, New York, Court of Federal Claims No: 25-2109V

279. Sundari Zamora, Sarasota, Florida, Court of Federal Claims No: 25-2110V

280. Jared Hays on behalf of A.H., Seattle, Washington, Court of Federal Claims No: 25-2111V

281. Deborah Massey and Jeffrey Massey on behalf of the estate of Shelby Massey, Deceased, Richardson, Texas, Court of Federal Claims No: 25-2112V

282. Lina Sadeq, Avon, Ohio, Court of Federal Claims No: 25-2113V

283. Joanne Holcomb, Buffalo, New York, Court of Federal Claims No: 25-2114V

284. Anna Williams, Sellersburg, Indiana, Court of Federal Claims No: 25-2115V

285. Juan Ortiz, New York, New York, Court of Federal Claims No: 25-2117V

286. Robert Wentzell, Bradenton, Florida, Court of Federal Claims No: 25-2118V

287. Harold Cameron, Boston, Massachusetts, Court of Federal Claims No: 25-2119V

288. Catherine Cather, Dresher, Pennsylvania, Court of Federal Claims No: 25-2120V

289. Margot Reynolds, Washington, District of Columbia, Court of Federal Claims No: 25-2121V

290. Steve Hinesley, Englewood, New Jersey, Court of Federal Claims No: 25-2127V

291. Emilia Gutierrez, Los Angeles, California, Court of Federal Claims No: 25-2128V

292. Jacqueline Smith, Dresher, Pennsylvania, Court of Federal Claims No: 25-2129V

293. Shawna Satterwhite, Richmond, Virginia, Court of Federal Claims No: 25-2130V

294. Mary Tomlinson, Leland, North Carolina, Court of Federal Claims No: 25-2131V

295. Stacy E. Hawkins, Oneida, New York, Court of Federal Claims No: 25-2132V

296. Caroline Moore, Longview, Texas, Court of Federal Claims No: 25-2135V

297. William Olaschinez, Marmora, New Jersey, Court of Federal Claims No: 25-2137V

298. Dominique Taylor on behalf of P.T., Tampa, Florida, Court of Federal Claims No: 25-2138V

299. Lucy Dorego, Fall River, Massachusetts, Court of Federal Claims No: 25-2139V

300. Timur Sarac, Columbus, Ohio, Court of Federal Claims No: 25-2140V

301. Erica Love, Aubrey, Texas, Court of Federal Claims No: 25-2142V

302. Julie Bard, Washington, District of Columbia, Court of Federal Claims No: 25-2144V

303. Thomas Carr, Oswego, New York, Court of Federal Claims No: 25-2146V

304. Patricia Hannum, Charlotte, North Carolina, Court of Federal Claims No: 25-2147V

305. Julie Canterbury, Overland Park, Kansas, Court of Federal Claims No: 25-2148V

306. Audrey Kim Griffin, Centennial, Colorado, Court of Federal Claims No: 25-2149V

307. Susan Friedlander, Boston, Massachusetts, Court of Federal Claims No: 25-2150V

308. Denise Bolton-Cromwell, Wynnewood, Pennsylvania, Court of Federal Claims No: 25-2152V

309. Melissa Amstadt, Rio Rancho, New Mexico, Court of Federal Claims No: 25-2153V

310. Julie Johnson, Downers Grove, Illinois, Court of Federal Claims No: 25-2154V

311. Nancy Crozier, Columbia, Tennessee, Court of Federal Claims No: 25-2155V

312. Sergey Pirogov, West Springfield, Massachusetts, Court of Federal Claims No: 25-2157V

313. Rosemane Joseph, Miami, Florida, Court of Federal Claims No: 25-2159V

314. Sarah Keegans, Chicago, Illinois, Court of Federal Claims No: 25-2164V

315. May Lei, Brookfield, Wisconsin, Court of Federal Claims No: 25-2165V

316. Khadija Gilkey, Clarksville, Tennessee, Court of Federal Claims No: 25-2166V

317. Ellen Burton, Galveston, Texas, Court of Federal Claims No: 25-2167V

318. Amanda Pittman, Washington, District of Columbia, Court of Federal Claims No: 25-2168V

319. Katelyn Brooks, Katy, Texas, Court of Federal Claims No: 25-2171V

320. Ryan Lee Beasley on behalf of the estate of Tommy Lee Beasley, Deceased, High Point, North Carolina, Court of Federal Claims No: 25-2172V

321. Stanley Hill, Palm Springs, California, Court of Federal Claims No: 25-2173V

322. April Wright, Galesburg, Illinois, Court of Federal Claims No: 25-2175V

323. Elizabeth Boston, Cincinnati, Ohio, Court of Federal Claims No: 25-2180V

324. Lisa Osterhoudt, Lebanon, Tennessee, Court of Federal Claims No: 25-2182V

325. Khalif Quran, Bonifay, Florida, Court of Federal Claims No: 25-2183V

326. Paul James Pope Sr., Hampstead, Maryland, Court of Federal Claims No: 25-2184V

327. William Korang, Forest Hills, New York, Court of Federal Claims No: 25-2187V

328. Gregory Centaro, East Orange, New Jersey, Court of Federal Claims No: 25-2188V

329. Suzanne Rankin, Cocoa Beach, Florida, Court of Federal Claims No: 25-2189V

330. Erik Halbig, Nashville, Tennessee, Court of Federal Claims No: 25-2190V

[FR Doc. 2026-01963 Filed 1-30-26; 8:45 am]

BILLING CODE 4165-15-P